DEPARTMENT OF COMMERCE

International Trade Administration

[A-821-811]

Solid Fertilizer Grade Ammonium Nitrate From the Russian Federation; Final Results of Antidumping Duty Administrative Review; Final Determination of No Shipments; 2014-2015

AGENCY: Enforcement and Compliance, International Trade Administration, Department of Commerce.

SUMMARY: On May 13, 2016, the Department of Commerce (the Department) published the preliminary results of the administrative review of the antidumping duty order on solid fertilizer grade ammonium nitrate (ammonium nitrate) from the Russian Federation. We invited interested parties to comment; we received no comments or requests for a hearing. Therefore, for the final results, we continue to find that sales of subject merchandise by JSC Acron and its affiliate JSC Dorogobuzh (collectively, Acron) have not been made at prices below normal value (NV) during the period of review (POR). Further, we continue to find that MCC EuroChem and its affiliates OJSC NAK Azot and OJSC Nevinnomyssky Azot (collectively, EuroChem) made no shipments of subject merchandise during the POR.

DATES: Effective September 19, 2016.

FOR FURTHER INFORMATION CONTACT: Elizabeth Eastwood or David Crespo, AD/CVD Operations, Office II, Enforcement and Compliance, International Trade Administration, U.S. Department of Commerce, 14th Street and Constitution Avenue NW., Washington, DC 20230; telephone: (202) 482-3874, or (202) 482-3693, respectively.

SUPPLEMENTARY INFORMATION: On May 13, 2016, the Department published the Preliminary Results.¹ The POR is April 1, 2014, through March 31, 2015. We invited interested parties to comment on the Preliminary Results. We received no comments or requests for a hearing. The Department conducted this administrative review in accordance with section 751(a) of the Tariff Act of 1930, as amended (the Act).

¹ See Solid Fertilizer Grade Ammonium Nitrate From the Russian Federation; Preliminary Results of Antidumping Duty Administrative Review; Preliminary Determination of No Shipments; 2014-2015, 81 FR 29839 (May 13, 2016) (Preliminary Results).

Scope of the Order

The merchandise subject to this order is solid, fertilizer grade ammonium nitrate products. The merchandise subject to this order is classified in the Harmonized Tariff Schedule of the United States (HTSUS) at subheadings 3102.30.00.00 and 3102.290000. Although the HTSUS subheadings are provided for convenience and customs purposes, the written description of the merchandise within the scope is dispositive.²

² For a complete description of the scope of the order, see the memorandum from Gary Taverman, Associate Deputy Assistant Secretary for Antidumping and Countervailing Duty Operations, to Paul Piquado, Assistant Secretary for Enforcement and Compliance, entitled, “Decision Memorandum for the Preliminary Results of the 2014-2015 Administrative Review of the Antidumping Duty Order on Solid Fertilizer Grade Ammonium Nitrate from the Russian Federation,” (Preliminary Decision Memorandum), dated May 5, 2016, which can be accessed directly at http://enforcement.trade.gov/frn/.

Final Results of Review and Final Determination of No Shipments

As noted above, the Department received no comments concerning the Preliminary Results on the record of this segment of the proceeding. As there are no changes from, or comments upon, the Preliminary Results, the Department finds that there is no reason to modify its analysis. Thus, we continue to find that sales of subject merchandise by Acron were not made at less than NV during the POR. Further, we continue to find that EuroChem made no shipments of subject merchandise during the POR. Accordingly, no decision memorandum accompanies this Federal Register notice. For further details of the issues addressed in this proceeding, see the Preliminary Results and the accompanying Preliminary Decision Memorandum. The final weighted-average dumping margin for the period April 1, 2014, through March 31, 2015 for Acron is as follows:

Producer/exporter | Weighted- average dumping margin (percent)
JSC Acron/JSC Dorogobuzh | 0.00

Assessment Rates

The Department will determine, and U.S. Customs and Border Protection (CBP) shall assess, antidumping duties on all appropriate entries in this review, in accordance with 19 CFR 351.212(b). The Department intends to issue assessment instructions directly to CBP 15 days after publication of these final results of review. Because we have calculated a zero margin for Acron, the only respondent with entries of subject merchandise during the POR, in the final results of this review, we will instruct CBP to liquidate the appropriate entries without regard to antidumping duties.

The Department clarified its “automatic assessment” regulation on May 6, 2003.³ This clarification applies to entries of subject merchandise during the POR produced and exported by Acron or EuroChem for which Acron or EuroChem did not know that the merchandise was destined for the United States. In such instances, we will instruct CBP to liquidate unreviewed entries at the all-others rate effective during the POR if there is no rate for the intermediate company(ies) involved in the transaction.⁴

³ See Antidumping and Countervailing Duty Proceedings: Assessment of Antidumping Duties, 68 FR 23954 (May 6, 2003) (Assessment Policy Notice).

⁴ See Assessment Policy Notice for a full discussion of this clarification.

Cash Deposit Requirements

The Department notified CBP to discontinue the collection of cash deposits on entries of the subject merchandise, entered or withdrawn from warehouse, on or after August 20, 2016.⁵ Therefore, no cash deposit requirements will be imposed in response to these final results.

⁵ See Ammonium Nitrate From the Russian Federation: Final Results of Sunset Review and Revocation of Antidumping Duty Order, 81 FR 61185 (August 12, 2016).

Reimbursement of Duties

This notice also serves as a final reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

Administrative Protective Order

This notice also serves as a reminder to parties subject to administrative protective order (APO) of their responsibility concerning the return or destruction of proprietary information disclosed under APO in accordance with 19 CFR 351.305(a)(3), which continues to govern business proprietary information in this segment of the proceeding. Timely written notification of the return/destruction of APO materials or conversion to judicial protective order is hereby requested. Failure to comply with the regulations and terms of an APO is a violation, which is subject to sanction.

We are issuing and publishing this notice in accordance with sections 751(a)(1) and 777(i)(1) of the Act.

Dated: September 12, 2016.
Paul Piquado,
Assistant Secretary for Enforcement and Compliance.

[FR Doc. 2016-22387 Filed 9-16-16; 8:45 am]

BILLING CODE 3510-DS-P